DEPARTMENT OF ENERGY

Federal Energy Regulatory Commission

Combined Notice of Filings #1

Take notice that the Commission received the following electric rate filings:

Docket Numbers: ER24-1274-002.

Applicants: Oleander Power Project, Limited Partnership.

Description: Offer of Settlement of Oleander Power Project, Limited Partnership.

Filed Date: 5/30/25.

Accession Number: 20250530-5430.

Comment Date: 5 p.m. ET 6/20/25.

Docket Numbers: ER25-89-001.

Applicants: Southwest Power Pool, Inc.

Description: Tariff Amendment: Deficiency Response in ER25-89—Revisions to Update the PRM Policy to be effective 10/1/2025.

Filed Date: 6/2/25.

Accession Number: 20250602-5168.

Comment Date: 5 p.m. ET 6/23/25.

Docket Numbers: ER25-1324-001.

Applicants: ISO New England Inc.

Description: Compliance filing: Eversource Energy Service Company (as agent) submits tariff filing per 35: RENEW vs ISO New England & NE Participating Transmission Owners; ER25-1324 to be effective 12/19/2024.

Filed Date: 6/2/25.

Accession Number: 20250602-5112.

Comment Date: 5 p.m. ET 6/23/25.

Docket Numbers: ER25-2059-001.

Applicants: Golden Spread Electric Cooperative, Inc.

Description: Tariff Amendment: Attachment T Effective Date Change to be effective 9/1/2026.

Filed Date: 20250602-5193.

Accession Number: 6/2/25.

Comment Date: 5 p.m. ET 6/23/25.

Docket Numbers: ER25-2392-000.

Applicants: Alabama Power Company, Georgia Power Company, Mississippi Power Company.

Description: Compliance filing: Alabama Power Company submits tariff filing per 35: OATT Attachment T Compliance Filing to be effective 8/27/2026.

Filed Date: 5/30/25.

Accession Number: 20250530-5380.

Comment Date: 5 p.m. ET 6/20/25.

Docket Numbers: ER25-2393-000.

Applicants: Holtec Palisades, LLC.

Description: Initial Rate Filing: Application for MBR Authority and Initial Baseline Tariff Filing to be effective 6/2/2025.

Filed Date: 5/30/25.

Accession Number: 20250530-5386.

Comment Date: 5 p.m. ET 6/20/25.

Docket Numbers: ER25-2393-001.

Applicants: Holtec Palisades, LLC.

Description: Tariff Amendment: Revision to MBR Application & Tariff (ER25-2393-) to be effective 6/2/2025.

Filed Date: 6/2/25.

Accession Number: 20250602-5176.

Comment Date: 5 p.m. ET 6/23/25.

Docket Numbers: ER25-2394-000.

Applicants: Public Service Company of New Mexico.

Description: 205(d) Rate Filing: Limited Modifications to Formula Rate to be effective 6/1/2025.

Filed Date: 5/30/25.

Accession Number: 20250530-5391.

Comment Date: 5 p.m. ET 6/20/25.

Docket Numbers: ER25-2395-000.

Applicants: Horizon West Transmission, LLC.

Description: 205(d) Rate Filing: Horizon West Transmission Revised Formula Rate to be effective 7/30/2025.

Filed Date: 5/30/25.

Accession Number: 20250530-5421.

Comment Date: 5 p.m. ET 6/20/25.

Docket Numbers: ER25-2396-000.

Applicants: Southwest Power Pool, Inc.

Description: 205(d) Rate Filing: 1876R9 KEPCO NITSA NOA to be effective 6/1/2025.

Filed Date: 6/2/25.

Accession Number: .20250602-5030

Comment Date: 5 p.m. ET 6/23/25.

Docket Numbers: ER25-2398-000.

Applicants: Louisiana Generating LLC.

Description: Request to Recover Costs Associated with Acting as a Local Balancing Authority of Louisiana Generating LLC.

Filed Date: 5/30/25.

Accession Number: 20250530-5441.

Comment Date: 5 p.m. ET 6/20/25.

Docket Numbers: ER25-2399-000.

Applicants: PJM Interconnection, L.L.C.

Description: Request for Waiver of Operating Agreement Provision, Shortened Comment Period and Expedited Commission Action of PJM Interconnection, L.L.C.

Filed Date: 5/30/25.

Accession Number: 20250530-5448.

Comment Date: 5 p.m. ET 6/9/25.

Docket Numbers: ER25-2400-000.

Applicants: Garrison Energy Center LLC.

Description: 205(d) Rate Filing: Garrison Energy Revised MBR Tariff Filing to be effective 8/1/2025.

Filed Date: 6/2/25.

Accession Number: 20250602-5091.

Comment Date: 5 p.m. ET 6/23/25.

Docket Numbers: ER25-2401-000.

Applicants: PJM Interconnection, L.L.C.

Description: Notice of Cancellation of Service Agreement No. 4823 of PJM Interconnection, L.L.C.

Filed Date: 5/30/25.

Accession Number: 20250530-5478.

Comment Date: 5 p.m. ET 6/20/25.

Docket Numbers: ER25-2402-000.

Applicants: Southwest Power Pool, Inc.

Description: 205(d) Rate Filing: 3215R17 People's Electric Cooperative NITSA NOA to be effective 8/1/2025.

Filed Date: 6/2/25.

Accession Number: 20250602-5122.

Comment Date: 5 p.m. ET 6/23/25.

Docket Numbers: ER25-2403-000.

Applicants: ISO New England Inc., New England Power Pool Participants Committee.

Description: 205(d) Rate Filing: ISO New England Inc. submits tariff filing per 35.13(a)(2)(iii: Revisions to Update Certain Definitions in the FCM Financial Assurance Formula to be effective 8/4/2025.

Filed Date: 6/2/25.

Accession Number: 20250602-5133.

Comment Date: 5 p.m. ET 6/23/25.

Docket Numbers: ER25-2402-000.

Applicants: Southwest Power Pool, Inc.

Description: 205(d) Rate Filing: 3215R17 People's Electric Cooperative NITSA NOA to be effective 8/1/2025.

Filed Date: 6/2/25.

Accession Number: 20250602-5122.

Comment Date: 5 p.m. ET 6/23/25.

Take notice that the Commission received the following electric reliability filings:

Docket Numbers: RR25-3-000.

Applicants: North American Electric Reliability Corporation.

Description: North American Electric Reliability Corporation's Report of Comparisons of Budgeted to Actual Costs for 2024 for NERC and the Regional Entities.

Filed Date: 6/2/25.

Accession Number: 20250602-5061.

Comment Date: 5 p.m. ET 6/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 2, 2025.
Carlos D. Clay,
Deputy Secretary.

[FR Doc. 2025-10352 Filed 6-5-25; 8:45 am]

BILLING CODE 6717-01-P